DEPARTMENT OF HOUSING AND URBAN DEVELOPMENT

[Docket No. FR-6380-N-01]

Tribal Intergovernmental Advisory Committee Meeting

AGENCY: Office of Assistant Secretary for Public and Indian Housing, HUD.

ACTION: Notice.

SUMMARY: This notice announces the first meeting of HUD's Tribal Intergovernmental Advisory Committee (TIAC). HUD is launching the committee to strengthen the nation-to-nation relationship between HUD and Tribal communities, coordinate policy across all HUD programs, and advise on the housing priorities of the American Indian and Alaska Native peoples. The establishment of this first ever committee follows consistent engagement between HUD and Tribes across the county.

FOR FURTHER INFORMATION CONTACT: Heidi J. Frechette, Deputy Assistant Secretary for Native American Programs, Office of Public and Indian Housing, Department of Housing and Urban Development, 451 Seventh Street SW, Room 4108, Washington, DC 20410, telephone number 202-401-7914 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Background

On March 31, 2022 (87 FR 18807), HUD published a notice in the Federal Register that announced the final structure of the TIAC and requested the submission of Tribal nominations to the TIAC. On November 29, 2022, HUD published a notice (87 FR 73317) announcing the TIAC membership. Thus, to strengthen HUD's engagement with Tribal Nations, HUD established its first Tribal advisory committee.

II. First Committee Meeting

The first meeting will be held on Wednesday, April 12, 2023, and Thursday, April 13, 2023. On each day, the session will begin at approximately 9 a.m., and adjourn at approximately 5:00 p.m. The meeting is scheduled to take place at the HUD Headquarters Building, 451 7th Street SW, Washington, DC 20410 in the Departmental Conference Room. The Committee will operate under the Tribal government statutory exemption to the Federal Advisory Committee Act (FACA) found in the Unfunded Mandates Reform Act (UMRA) at 2 U.S.C. 1534(b). Accordingly, participation in the meeting is limited to TIAC members. Members of the public may not formally participate in the meeting or make statements during the meeting.

Marcia L. Fudge,
Secretary.

[FR Doc. 2023-06469 Filed 3-28-23; 8:45 am]

BILLING CODE 4210-67-P